GENERAL ACCOUNTING OFFICE

4 CFR Chapter I

Claims, Waiver of Claims and Transportation Issues

AGENCY: General Accounting Office.

ACTION: Final rule.

SUMMARY: The General Accounting Office (GAO) is removing regulations which relate to the settlement of claims, settlement of accounts of deceased and incompetent individuals, transportation transactions, and waiver of claims for erroneous payments. The Legislative Branch Appropriations Act of 1996 transferred these functions to the executive branch, but these regulations were kept for a transition period. This final rule eliminates these regulations as unnecessary because the functions are no longer carried out by GAO but have been transferred to other federal agencies.

DATES: Effective May 25, 2000.

FOR FURTHER INFORMATION CONTACT: Barry L. Shillito, 202-512-4663; shillitob.ogc@gao.gov.

SUPPLEMENTARY INFORMATION:

Claims Settlements Authority

In Subchapter C (Claims; General), Parts 30-36 set out the Comptroller General's regulations for the settlement of (1) claims and (2) accounts of certain deceased and incompetent individuals. The Legislative Branch Appropriations Act of 1996, Public Law 104-53, sec. 211(a), 109 Stat. 514, 535 (1996), transferred certain of the Comptroller General's authority to settle claims and accounts to the Director of the Office of Management and Budget (OMB), and provided for the Director of OMB to delegate this authority to other appropriate agencies. The Director of OMB delegated his authority to several executive branch agencies. Subsequently, the General Accounting Office Act of 1996, Public Law 104-316, 110 Stat. 3826 (1996), set out in detail, among other things, the authority given to the Director of OMB and other heads of agencies to settle the claims and accounts formerly subject to settlement by the Comptroller General. Section 202(n) of the GAO Act of 1996 made a conforming amendment to 31 U.S.C. 732 to set out the executive branch agencies to whom the Director of OMB delegated the authority to settle claims formerly within the authority of the Comptroller General. Additionally, section 103(c) of the GAO Act of 1996 transferred the Comptroller General's authority to promulgate regulations with respect to the designation of beneficiaries for certain deceased and incompetent persons to various specified officials in the three branches of government.

The Director of OMB delegated to the Director of the Office of Personnel Management (OPM) the authority to settle claims against the United States involving Federal employee compensation and leave, deceased employees' compensation, and proceeds of canceled checks payable to deceased beneficiaries. Individuals with these types of claims should no longer contact GAO but should contact OPM.

The Director of OMB delegated to the Administrator of General Services the authority to settle claims involving expenses incurred by Federal civilian employees for official travel and transportation and for relocation expenses incident to transfers of official duty station. Individuals with these type of claims should no longer contact GAO but should contact the General Services Administration.

OMB delegated to the Secretary of Defense the authority to settle claims for military pay, allowances, travel, transportation, retired pay, and survivor benefits as well as claims by transportation carriers involving amounts collected from them for loss or damage incurred to property incident to shipment at Government expense. Individuals with these types of claims should no longer contact GAO but should contact the Department of Defense.

Accordingly, the Comptroller General no longer has the authority to prescribe the regulations in 4 CFR parts 30-32, regarding claims settlement, and parts 33-36, regarding settlement of accounts for certain deceased and incompetent persons.

Transportation

Sections 125 and 127(d) of the GAO Act of 1996, transferred the Comptroller General's authority to promulgate regulations for transportation transactions for use of U.S. flag carriers pursuant to the Merchant Marine Act of 1936, 46 U.S.C. 1241a, and the Fly America Act, 49 U.S.C. 40118(c), to the Administrator of General Services. Accordingly, the Comptroller General no longer has authority to prescribe the regulations found at 4 CFR part 52. With the removal of part 52, there is no further need for 4 CFR part 51.

Section 202(o)(2) of the GAO Act of 1996 transferred the Comptroller General's authority to promulgate regulations governing the review of GSA transportation settlement actions pursuant to 31 U.S.C. 3726(g)(1) to the Administrator of General Services. Accordingly the Comptroller General no longer has authority to prescribe the regulations found at 4 CFR part 53.

Section 202(o)(1) of the GAO Act of 1996, 110 Stat. 3826, 3844 (1996), removed the Comptroller General's authority to jointly prescribe standards, with the Secretary of Treasury, for advance payment of charges for transportation services pursuant to 31 U.S.C. 3726(f). Accordingly, the Comptroller General no longer has authority to prescribe the regulations found at 4 CFR part 56.

Given the above discussion, there is no long current need for a subchapter devoted to transportation (Subchapter D).

Waiver

Sections 103 of the GAO Act of 1996 transferred the Comptroller General's authority to waive claims against civilian employees arising out of erroneous payments of pay and allowances, travel, transportation and relocation benefits to the head of an agency with respect to a legislative branch employee, or to the Director of OMB with respect to any other agency or employee. Further, the Comptroller General's authority over such claims against members of the military and the National Guard was transferred to the Director of OMB by sections 105(b) and 116 of the GAO Act of 1996. The Director of OMB has delegated his authority to the head of the agency that made the erroneous payment. Accordingly the Comptroller General no longer has authority to promulgate the regulations at 4 CFR parts 91 and 92 (Subchapter G—Standards for waiver of claims for erroneous payments of pay and allowances, and of travel, transportation, and relocation expenses and allowances). Individuals seeking a waiver should no longer contact GAO but should direct a request for waiver to their employing agency.

Accordingly, as set forth in the preamble and under the authority of Public Law 104-53, sec. 211(a), 109 Stat. 535, and secs. 103(c), 103(d), 105(b), 116, 125, and 127 of Public Law 104-316, 110 Stat. 3826, GAO amends 4 CFR Chapter I as follows:

1. Subchapter C, consisting of parts 30 through 36, Subchapter D, consisting of parts 51 through 53 and part 56, and Subchapter G, consisting of parts 91 through 93, are removed and reserved.

Dated: May 19, 2000.
Robert P. Murphy,
General Counsel, General Accounting Office.

[FR Doc. 00-13192 Filed 5-24-00; 8:45 am]

BILLING CODE 1610-02-P